DEPARTMENT OF LABOR

Employment and Training Administration

[NAFTA-04495]

Johnson Electric Automotive, Inc. Lear Corporation Brownsville, TX, Including Temporary Workers of Austin Temporary Services Employed at Johnson Electric Automotive, Inc., Brownsville, TX; Amended Certification Regarding Eligibility To Apply for NAFTA-Transitional Adjustment Assistance

In accordance with section 250(A), Subchapter D, Chapter 2, Title II, of the Trade Act of 1974 (19 U.S.C. 2273), the Department of Labor issued a Certification for NAFTA Transitional Adjustment Assistance on February 22, 2001, applicable to workers of Johnson Electric Automotive, Brownsville, Texas. The notice was published in the Federal Register on April 5, 2001 (66 FR 18119).

At the request of the State agency, the Department reviewed the certification for workers of the subject firm. The workers were engaged in the production of shafts of motors for lawnmowers and boats.

New information shows that workers separated from employment at Johnson Electric Automotive, Inc., had their wages reported under a separated unemployment insurance (UI) tax account for Lear Corporation.

Accordingly, the Department is amending the certification to properly reflect this matter.

The intent of the Department's certification is to include all workers of Johnson Electric Automotive, Inc., Brownsville, Texas adversely affected by a shift of production to Mexico.

The amended notice applicable to NAFTA—04495 is hereby issued as follows:

“All workers of Johnson Electric Automotive, Inc., Lear Corporation, Brownsville, Texas including temporary workers of Austin Temporary Services, Harlingen, Texas who were engaged in the production of shafts of motors for lawnmowers and boats at Johnson Electric Automotive, Inc., Lear Corporation, Brownsville, Texas who became totally or partially separated from employment on or after January 26, 2000 through February 22, 2003 are eligible to apply for NAFTA-TAA under section 250 of the Trade Act of 1974.”

Signed at Washington, DC this 2nd day of October, 2001.
Linda G. Poole,
Certifying Officer, Division of Trade Adjustment Assistance.

[FR Doc. 01-26049 Filed 10-16-01; 8:45 am]

BILLING CODE 4510-30-M